DEPARTMENT OF DEFENSE

Department of the Navy

Meeting of the Chief of Naval Operations (CNO) Executive Panel

AGENCY: Department of the Navy, DoD.

ACTION: Notice of Closed Meeting.

SUMMARY: The CNO Executive Panel will report on the findings and recommendations of the Naval Education Subcommittee to the CNO. The meeting will consist of the final report to the CNO and relate solely to the internal personnel rules and practices of the Navy in the area of education.

DATES: The meeting will be held on February 20, 2007, from 2 p.m. to 3:30 p.m.

ADDRESSES: The meeting will be held in CNA Corporation Building, 4825 Mark Center Drive, Alexandria, VA 22311, Room 1A02.

FOR FURTHER INFORMATION CONTACT: CDR Steve Vincent, CNO Executive Panel, 4825 Mark Center Drive, Alexandria, VA 22311, 703-681-4906.

SUPPLEMENTARY INFORMATION: Pursuant to the provisions of the Federal Advisory Committee Act (5 U.S.C. App. 2), these matters constitute sensitive information that is specifically authorized to be kept private. Accordingly, the Secretary of the Navy has determined in writing that the public interest requires that all sessions of this meeting be closed to the public because they will be concerned with matters listed in sections 552b(c)(2) and 552b(c)(6) of title 5, United States Code.

Dated: January 29, 2007.
M.A. Harvison,
Lieutenant Commander, Judge Advocate General's Corps, U.S. Navy, Federal Register Liaison Officer.

[FR Doc. E7-1775 Filed 2-2-07; 8:45 am]

BILLING CODE 3810-FF-P